TENNESSEE VALLEY AUTHORITY

Agency Information Collection Activities: Submission for OMB Review; Comment Request

AGENCY: Tennessee Valley Authority (TVA).

ACTION: 30-Day notice of submission of information collection reinstatement approval request to OMB.

SUMMARY: Tennessee Valley Authority (TVA) provides notice of submission of this information clearance request (ICR) to the Office of Management and Budget (OMB) for review and approval in accordance with the Paperwork Reduction Act of 1995 (PRA). The general public and other federal agencies are invited to comment. TVA previously published a 60-day notice of the proposed information collection reinstatement for public review February 22, 2023 and no comments were received.

DATES: The OMB will consider all written comments received on or before May 30, 2023.

ADDRESSES: Written comments for the proposed information collection reinstatement should be sent within 30 days of publication of this notice to www.reginfo.gov/public/do/PRAMain. Find this particular information collection by selecting “Currently under 30-day Review—Open for Public Comments” or by using the search function.

SUPPLEMENTARY INFORMATION:

Type of Request: Reinstatement, with minor modification, of a previously approved information collection for which approval has expired.

Title of Information Collection: Employment Application.

OMB Control Number: 3316-0063.

Current Expiration Date: 4-30-2023.

Frequency of Use: On occasion.

Type of Affected Public: Individuals.

Small Businesses or Organizations Affected: No.

Federal Budget Functional Category Code: 455.

Estimated Number of Annual Responses: 14,475.

Estimated Total Annual Burden Hours: 3,185.

Estimated Average Burden Hours per Response: 0.2.

Need For and Use of Information: Applications for employment are needed to collect information on qualifications, suitability for employment, and eligibility for veteran's preference. The information is used to make comparative appraisals and to assist in selections. The affected public consists of individuals who apply for TVA employment.

Rebecca L. Coffey,
Agency Records Officer.

[FR Doc. 2023-08832 Filed 4-26-23; 8:45 am]

BILLING CODE 8120-08-P